EXECUTIVE OFFICE OF THE PRESIDENT

Office of the Intellectual Property Enforcement Coordinator

5 CFR Chapter CIV

RIN 0355-AA00

Freedom of Information Act and the Privacy Act

Correction

In rule document 2023-02552, appearing on pages 8207-8217, in the issue of Wednesday, February 8, 2023, make the following correction:

On page 8208, in the third column, in the 16th-21st lines from the bottom of the page, the words of issuance and chapter heading are corrected to read as set forth below:

For the reasons stated in the preamble, the Office of the Intellectual Property Enforcement Coordinator is establishing chapter CIV, consisting of part 10400, in title 5 of the Code of Federal Regulations to read as follows:

Chapter CIV—Office of the Intellectual Property Enforcement Coordinator

[FR Doc. C1-2023-02552 Filed 2-16-23; 8:45 am]

BILLING CODE 0099-10-D